FEDERAL HOUSING FINANCE AGENCY

12 CFR Parts 1200, 1202, 1203, 1204, 1209, 1215, 1263, and 1264

RIN 2590-AA79

Technical Amendments: FHFA Address and Zip Code Change

AGENCY: Federal Housing Finance Agency.

ACTION: Final rule.

SUMMARY: The Federal Housing Finance Agency (FHFA) is issuing this final rule as a technical change to correct regulatory references to FHFA's address and postal zip code.

DATES: Effective December 24, 2015. For additional information, see SUPPLEMENTARY INFORMATION.

FOR FURTHER INFORMATION CONTACT: Crystal Miller, Crystal.Miller@fhfa.gov, (202) 649-3079, Paralegal Specialist (not a toll-free number), Office of General Counsel, Federal Housing Finance Agency, Constitution Center, Eighth Floor (OGC), 400 7th Street SW., Washington, DC 20219. The telephone number for the Telecommunications Device for the Hearing Impaired is (800) 877-8339.

SUPPLEMENTARY INFORMATION:

I. Background

FHFA Headquarters Address Change

In January 2012, FHFA moved to a new headquarters building in Southwest Washington, DC. As a result, the addresses for FHFA's former locations in Northwest Washington, DC, included in 12 CFR 1203.29, 1209.15(a), 1263.5(a)(2), and 1264.6(a) are now out-of-date. This final rule amends those regulations to replace the FHFA's former addresses with its current address, 400 7th Street SW., Washington, DC 20219.

FHFA Zip Code Change

Effective November 1, 2015, all mail addressed to FHFA is being processed through a different mail processing facility. This facility change required that FHFA use a new zip code. As a result, the zip code in the addresses for the FHFA included in 12 CFR 1200.1(b), 1200.2(g), 1202.3(c), 1202.5(a), 1202.9(a), 1204.3(b), 1204.5(b)(2), 1209.102(a)(1), and 1215.7(b) are now out-of-date. This final rule amends those regulations to replace the FHFA's zip code, which changed from 20024 to 20219. The street address of 400 7th Street SW., Washington, DC remains the same.

FHFA submitted a change-of-address request to the local United States Post Office to forward mail containing the old zip code; however, mail addressed with the zip code 20024 after November 1, 2015, may result in delayed delivery to all FHFA offices.

II. Notice and Comment

Pursuant to the Administrative Procedure Act (APA), notice and comment are not required prior to the issuance of a final rule if an agency, for good cause, finds that “notice and public procedure thereon are impracticable, unnecessary, or contrary to the public interest.” ¹ FHFA finds that public notice and comment on this final rule are unnecessary. The final rule's update of FHFA's address and postal zip code is purely a technical change to the Agency's regulations and provides FHFA's regulated entities, interested parties, and other members of the public with FHFA's current and accurate location and mailing address information. For these reasons, FHFA has good cause to conclude that advance notice and comment under the APA for this rulemaking are unnecessary.

¹ 5 U.S.C. 553(b).

III. Effective Date

This final rule is effective on December 24, 2015. Pursuant to the APA, a final rule may be effective without 30 days advance publication in the Federal Register if an agency finds good cause and publishes its finding with the final rule.² As described above, the updates made by this final rule to FHFA's physical addresses and zip code are technical changes and will have no substantive effect on FHFA's regulated entities, interested parties, or other members of the public. Therefore, the FHFA finds good cause to dispense with a delayed effective date.

² 5 U.S.C. 553(d)(3).

IV. Regulatory Analysis

Regulatory Flexibility Act

Pursuant to the Regulatory Flexibility Act (RFA),³ an agency must prepare a regulatory flexibility analysis for all proposed and final rules that describes the impact of the rule on small entities, unless the head of an agency certifies that the rule will not have “a significant economic impact on a substantial number of small entities.” However, the RFA applies only to rules for which an agency publishes a general notice of proposed rulemaking pursuant to the APA.⁴ As discussed above, the FHFA has determined for good cause that the APA does not require notice and public comment on this rule and, therefore, FHFA is not publishing a general notice of proposed rulemaking. Thus, the RFA does not apply to this final rule.

³ 5 U.S.C. 603.

⁴ 5 U.S.C. 603(a), 604(a).

Paperwork Reduction Act

This final rule amends FHFA's address within two regulatory provisions (12 CFR 1263.5(a)(2) and 12 CFR 1264.6(a)) containing currently approved collections of information under the Paperwork Reduction Act (PRA) (44 U.S.C. 3501-3520).⁵ The final rule does not substantively or materially modify the current, approved information collection.

⁵ OMB Control Nos. 2590-0001 and 2590-0003.

List of Subjects

12 CFR Part 1200

Organization and functions (Government agencies), Seals and insignia.

12 CFR Part 1202

Appeals, Confidential Commercial Information, Disclosure, Exemptions, Fees, Final Action, Freedom of Information Act, Judicial review, Records, Requests.

12 CFR Part 1203

Administrative practice and procedure, Equal access to justice.

12 CFR Part 1204

Accounting, Amendment, Appeals, Correction, Disclosure, Exemptions, Fees, Records, Requests, Privacy Act, Social Security numbers.

12 CFR Part 1209

Administrative practice and procedure, Penalties.

12 CFR Part 1215

Administrative practice and procedure, Courts, Government employees, Records, Subpoenas, Testimony.

12 CFR Part 1263

Federal home loan banks, Reporting and recordkeeping requirements.

12 CFR Part 1264

Community development, Credit, Federal home loan banks, Housing, Reporting and recordkeeping requirements.

Accordingly, for reasons stated in the Supplementary Information and under the authority of 12 U.S.C. 4526, FHFA hereby amends subchapters A and D of chapter XII of title 12 of the Code of Federal Regulations as follows:

Subchapter A—Organization and Operations

PART 1200—[AMENDED]

1. The authority citation for part 1200 continues to read as follows:

Authority: 5 U.S.C. 552, 12 U.S.C. 4512, 12 U.S.C. 4526.

§§ 1200.1 and 1200.2 [Amended]

2. Part 1200 is amended by removing the zip code “20024” wherever it appears and adding “20219” in its place in §§ 1200.1(b) and 1200.2(g).

PART 1202—[AMENDED]

3. The authority citation for part 1202 continues to read as follows:

Authority: Pub. L. 110-289, 122 Stat. 2654; 5 U.S.C. 301, 552; 12 U.S.C. 4526; E.O. 12600, 52 FR 23781, 3 CFR, 1987 Comp., p. 235; E.O. 13392, 70 FR 75373-75377, 3 CFR, 2006 Comp., p. 216-200.

§§ 1202.3, 1202.5, and 1202.9 [Amended]

4. Part 1202 is amended by removing the zip code “20024” wherever it appears and adding “20219” in its place in §§ 1202.3(c), 1202.5(a), and 1202.9(a).

PART 1203—[AMENDED]

5. The authority citation for part 1203 continues to read as follows:

Authority: 12 U.S.C. 4526, 5 U.S.C. 504.

§ 1203.29 [Amended]

6. Section 1203.29 is amended by removing the phrase “1700 G Street NW., Washington, DC 20552” and adding “400 7th Street SW., Washington, DC 20219” in its place.

PART 1204—[AMENDED]

7. The authority citation for part 1204 continues to read as follows:

Authority: 5 U.S.C. 552a.

§§ 1204.3 and 1204.5 [Amended]

8. Part 1204 is amended by removing the zip code “20024” wherever it appears and adding “20219” in its place in §§ 1204.3(b) and 1204.5(b)(2).

PART 1209—[AMENDED]

9. The authority citation for part 1209 continues to read as follows:

Authority: 5 U.S.C. 554, 556, 557, and 701 et seq.; 12 U.S.C. 1430c(d); 12 U.S.C. 4501, 4502, 4503, 4511, 4513, 4513b, 4517, 4526, 4566(c)(1) and (c)(7), 4581-4588, 4631-4641; and 28 U.S.C. 2461 note.

§ 1209.15 [Amended]

10. Remove the phrase “1700 G Street NW., Fourth Floor, Washington, DC 20552” and add “400 7th Street SW., Eighth Floor, Washington, DC 20219” in its place in § 1209.15(a).

§ 1209.102 [Amended]

11. Remove the zip code “20024” and add “20219” in its place in § 1209.102(a)(1).

PART 1215—[AMENDED]

12. The authority citation for part 1215 continues to read as follows:

Authority: 5 U.S.C. 301; 12 U.S.C. 4526.

§ 1215.7 [Amended]

13. Section 1215.7 is amended by removing the zip code “20024” and adding “20219” in its place in paragraph (b).

Subchapter D—Federal Home Loan Banks

PART 1263—[AMENDED]

14. The authority citation for part 1263 continues to read as follows:

Authority: 12 U.S.C. 1422, 1423, 1424, 1426, 1430, 1442, 4511, 4513.

§ 1263.5 [Amended]

15. Section 1263.5 is amended by removing the phrase “1625 Eye Street NW., Washington, DC 20006” and adding “400 7th Street SW., Seventh Floor, Washington, DC 20219” in its place in paragraph (a)(2).

PART 1264—[AMENDED]

16. The authority citation for part 1264 continues to read as follows:

Authority: 12 U.S.C. 1430b, 4511, 4513 and 4526.

§ 1264.6 [Amended]

17. Section 1264.6 is amended by removing the phrase “1625 Eye Street NW., Washington, DC 20006” and adding “400 7th Street SW., Seventh Floor, Washington, DC 20219” in its place in paragraph (a).

Dated: December 17, 2015.
Melvin L. Watt,
Director, Federal Housing Finance Agency.

[FR Doc. 2015-32199 Filed 12-23-15; 8:45 am]

BILLING CODE 8070-01-P